NUCLEAR REGULATORY COMMISSION

Advisory Committee on the Medical Uses of Isotopes: Meeting Notice

AGENCY: Nuclear Regulatory Commission.

ACTION: Notice of meeting.

SUMMARY: The U.S. Nuclear Regulatory Commission (NRC) will convene a teleconference meeting of the Advisory Committee on the Medical Uses of Isotopes (ACMUI) on June 10, 2019, to discuss: (1) The revisions to the ACMUI bylaws and (2) the draft report of the ACMUI Regulatory Guide 8.39 Subcommittee. This report will include the subcommittee's comments and recommendations on Phase 1 of the revisions to Regulatory Guide 8.39, “Release of Patients Administered Radioactive Material.” A phased approach is being conducted by the NRC staff to comprehensively update Regulatory Guide 8.39. Phase 1 of the revision provides licensees with more detailed instructions to patients before and after they have been administered radioactive material than what is currently provided in Regulatory Guide 8.39. Meeting information, including a copy of the agenda and handouts, will be available at http://www.nrc.gov/reading-rm/doc-collections/acmui/meetings/2019.html. The agenda and handouts may also be obtained by contacting Ms. Kellee Jamerson using the information below.

DATES: The teleconference meeting will be held on Monday, June 10, 2019, 2:00 p.m. to 4:00 p.m. Eastern Time.

Public Participation: Any member of the public who wishes to participate in the teleconference should contact Ms. Jamerson using the contact information below or may register for the GoToWebinar for the June 10, 2019, meeting at https://attendee.gotowebinar.com/register/8147066000509193473.

Contact Information: Kellee Jamerson, email: Kellee.Jamerson@nrc.gov, telephone: (301) 415-7408.

Conduct of the Meeting

Dr. Christopher Palestro, ACMUI Chairman, will preside over the meeting. Dr. Palestro will conduct the meeting in a manner that will facilitate the orderly conduct of business. The following procedures apply to public participation in the meeting:

1. Persons who wish to provide a written statement should submit an electronic copy to Ms. Jamerson at the contact information listed above. All submittals must be received by June 4, 2019, three business days prior to the June 10, 2019, meeting, and must pertain to the topic on the agenda for the meeting.

2. Questions and comments from members of the public will be permitted during the meeting at the discretion of the Chairman.

3. The draft transcript and meeting summary will be available on ACMUI's website http://www.nrc.gov/reading-rm/doc-collections/acmui/meetings/2019.html on or about July 23, 2019.

This meeting will be held in accordance with the Atomic Energy Act of 1954, as amended (primarily Section 161a); the Federal Advisory Committee Act (5 U.S.C. App); and the Commission's regulations in 10 CFR part 7.

Dated: May 6, 2019.
Russell E. Chazell,
Federal Advisory Committee Management Officer.

[FR Doc. 2019-09525 Filed 5-8-19; 8:45 am]

BILLING CODE 7590-01-P